UNIFIED CARRIER REGISTRATION PLAN

Sunshine Act Meetings

TIME AND DATE: February 29, 2024, 12:00 p.m. to 3:00 p.m., Eastern Time.

PLACE: This meeting will be accessible via conference call and via Zoom Meeting and Screenshare. Any interested person may call (i) 1-929-205-6099 (US Toll) or 1-669-900-6833 (US Toll), Meeting ID: 997 0103 4622, to listen and participate in this meeting. The website to participate via Zoom Meeting and Screenshare is https://kellen.zoom.us/meeting/register/tJ0qd-iorT8sGNbSuEQM-d2U0A_c3gFdaqie.

STATUS: This meeting will be open to the public.

MATTERS TO BE CONSIDERED: The Unified Carrier Registration Plan Board of Directors (the “Board”) will continue its work in developing and implementing the Unified Carrier Registration Plan and Agreement. The subject matter of this meeting will include:

Proposed Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed. The Board will consider action to adopt.

Ground Rules

➢ Board actions taken only in designated areas on the agenda.

IV. Approval of Minutes of the January 18, 2024 UCR Board Meeting—UCR Board Chair

For Discussion and Possible Board Action

Draft Minutes from the January 18, 2024, UCR Board meeting will be reviewed. The Board will consider action to approve.

V. Approval of Minutes of the February 1, 2024 UCR Board Meeting—UCR Board Chair

For Discussion and Possible Board Action

Draft Minutes from the February 1, 2024, UCR Board meeting will be reviewed. The Board will consider action to approve.

VI. Report of FMCSA—FMCSA Representative

The Federal Motor Carrier Safety Administration (FMCSA) will provide a report on any relevant agency activity, including the status of the FMCSA's Notice of Proposed Rulemaking concerning the 2025 UCR Fee Rulemaking and its publication in the Federal Register.

VII. Engagement Letter Between the UCR Plan and the Bradley Arant Law Firm—UCR Board Chair and UCR Executive Director

For Discussion and Possible Board Action

An engagement letter between the UCR Plan and the Bradley Arant law firm will be presented to the Board for consideration and approval covering legal services provided by the Bradley Arant law firm in representing the UCR Plan before the United States Patent and Trademark Office in the trademark cancellation proceeding filed by the Small Business in Transportation Coalition. The Board may take action to approve the engagement letter on the terms outlined in the engagement letter.

VIII. UCR Plan Legal Counsel Report—UCR Plan Legal Counsel

UCR Plan Legal Counsel will report on his activities as UCR Plan Legal Counsel since the last Board of Directors meeting including, the issuance of trademark licenses to participating states, developing a procedure to amend the UCR Agreement and responding to comments received by the FMCSA in connection with the 2025 UCR Fee Rule making.

IX. Subcommittee Reports

Audit Subcommittee—UCR Audit Subcommittee Chair, UCR Audit Subcommittee Vice-Chair

A. Updates to the UCR Handbook—UCR Audit Subcommittee Chair, UCR Audit Subcommittee Vice-Chair

For Discussion and Possible Board Action

The UCR Audit Subcommittee Chair and Vice Chair will lead a discussion on steps to update the UCR Handbook in order to reduce confusion and eliminate conflicting guidance in the Handbook. The proposed amendments relate to the following sections of the Handbook:

• “Leasing Companies” page 10

• “Effect of IRP Registration” page 27

• “Entities Performing More Than One Function” “Businesses Operating More Than One Motor Carrier” pages 10 and 11

The Board may take action to amend the UCR Handbook in the sections listed above.

Finance Subcommittee—UCR Finance Subcommittee Chair and UCR Depository Manager

A. Financial Update—UCR Depository Manager

The UCR Depository Manager will provide an update on the financial status of the administrative fund. An update on fees collected for the 2024 registration year will also be provided.

B. The Finance Subcommittee Recommendation to the UCR Board for the Selection of External Auditor To Audit the Unified Carrier Registration Plan Depository for the Year Ended December 31, 2022—UCR Finance Subcommittee Chair

For Discussion and Possible Board Action

The UCR Finance Subcommittee Vice-Chair and the UCR Depository Manager will give an update on the selection of an audit firm to conduct the 2022 external audit. The UCR Finance Subcommittee recommends the appointment of Williams Benator and Libby, LLP (“WBL”) to serve as the external auditors of the 2022 financial year. The Board may take action to engage the services of an external auditor for the Unified Carrier Registration Plan Depository for the year ended December 31, 2022.

Education and Training Subcommittee—UCR Education and Training Subcommittee Chair

No significant action to report.

Industry Advisory Subcommittee—UCR Industry Advisory Subcommittee Chair

No significant action to report.

Enforcement Subcommittee—UCR Enforcement Subcommittee Chair

Update on Current Initiatives—UCR Enforcement Subcommittee Chair

The UCR Enforcement Subcommittee Chair will provide an update on current and planned initiatives to include a review of enforcement rates, enforcement as against under-registered carriers, how enforcement can support and contribute to inspection audits, presentation on reports available through the NRS to enforcement staff, an update on PowerPoint training, creation of standards for annual UCR enforcement awards, and conducting biannual enforcement blitzes.

Dispute Resolution Subcommittee—UCR Dispute Resolution Subcommittee Chair

A. Update on the Status of the Three Pending Complaints Before the Dispute Resolution Subcommittee Filed by the Small Business in Transportation Coalition (“SBTC”)—UCR Dispute Resolution Subcommittee Chair and UCR Plan Counsel

The UCR Dispute Resolution Subcommittee Chair and UCR Plan Counsel will discuss the status of the three pending complaints before the Dispute Resolution Subcommittee Filed by the Small Business in Transportation Coalition (“SBTC”).

B. Possible Change to the Policy for Resolving Disputes Under the Unified Carrier Registration Agreement—UCR Dispute Resolution Subcommittee Chair and UCR Executive Director

For Discussion and Possible Subcommittee Action

The UCR Dispute Resolution Subcommittee Chair and UCR Executive Director will present the motion passed by the Dispute Resolution Subcommittee to amend the Policy for Resolving Disputes Under the Unified Carrier Registration Agreement, under Section IV, “Public Notice”, to make clear that a notice of hearing before the Board is now submitted directly to the Federal Register for publication by the UCR Plan, and not as previously was the case, through a request to the Federal Motor Carrier Safety Administration. The Board may take action to approve this change in the Policy for Resolving Disputes Under the Unified Carrier Registration Agreement.

X. Contractor Reports—UCR Board Chair

UCR Executive Director Report

The UCR Executive Director will provide a report covering his recent activity for the UCR Plan including any changes in the dates of UCR meetings in 2024.

UCR Administrator Report (Kellen)

The UCR Chief of Staff will provide a management update covering recent activity for the Depository, Operations, and Communications.

DSL Transportation Services, Inc.

DSL Transportation Services, Inc. will report on the latest data from the FARs program, Tier 5 and 6 unregistered motor carriers, and other matters.

Seikosoft

Seikosoft will provide an update on its recent/new activity related to the UCR's National Registration System.

XI. Other Business—UCR Board Chair

The UCR Board Chair will call for any other business, old or new, from the floor.

XII. Adjournment—UCR Board Chair

The UCR Board Chair will adjourn the meeting.

The agenda will be available no later than 5:00 p.m. Eastern time, February 21, 2024, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2024-04014 Filed 2-22-24; 4:15 pm]

BILLING CODE 4910-YL-P